DEPARTMENT OF LABOR

Employment and Training Administration

[TA-W-83,194]

Merck Sharp & Dohme Corporation; A Subsidiary of Merck & Co., Inc.; Research And Development Group; Including On-Site Leased Workers From Agile-1 And Lancaster Laboratories; West Point, Pennsylvania; Notice of Revised Determination on Reconsideration

On April 8, 2014, the Department of Labor issued an Affirmative Determination Regarding Application for Reconsideration for the workers and former workers of Merck Sharp & Dohme Corp., (MSD), a Subsidiary of Merck & Co., Inc., West Point, Pennsylvania. The appropriate subdivision was later identified as Merck Sharp & Dohme Corporation, a subsidiary of Merck & Co., Inc., Research and Development Group, West Point, Pennsylvania (hereafter referred to as the “R&D Group” or “subject firm”). The Notice was published in the Federal Register on April 29, 2014 (79 FR 24013).

In the request for reconsideration, the petitioner stated that the initial investigation of this petition was too broad and did not examine how the functions of the workers of the R&D Group may have been impacted by outsourcing and/or increased imports of like or directly competitive services. Further, the petitioner stated that workers of Merck Sharpe & Dohme Corporation, Merck Research Labs, Disease Area Biology, In Vitro/In Vivo, Kenilworth, New Jersey (case TA-W-81,413) were certified eligible to apply for adjustment assistance on May 18, 2012 and alleged that workers of the subject firm were impacted by similar circumstances and should also be certified eligible to apply for adjustment assistance.

The group eligibility requirements for workers of a firm under Section 222(a) of the Act, 19 U.S.C. 2272(a), are satisfied if the following criteria are met:

(1) A significant number or proportion of the workers in such workers' firm have become totally or partially separated, or are threatened to become totally or partially separated;

(2)(B)(i)(I) there has been a shift by the workers' firm to a foreign country in the production of articles or supply of services like or directly competitive with those produced/supplied by the workers' firm; OR

(II) there has been an acquisition from a foreign country by the workers' firm of articles/services that are like or directly competitive with those produced/supplied by the workers' firm; AND

(ii) the shift/acquisition must have contributed importantly to the workers' separation or threat of separation.

During the reconsideration investigation, the Department collected information from the petitioner, a former worker of the R&D Group, and the subject firm in order to confirm previously supplied information, address allegations, narrow the scope of the investigation to the R&D Group, and collect new information to determine whether foreign competition impacted the operations at the subject firm.

The reconsideration investigation revealed that the workers in the R&D Group were impacted by a foreign acquisition of R&D functions like or directly competitive with the functions supplied by the workers, which contributed importantly to separations in the R&D Group.

The reconsideration investigation also revealed that the worker group includes on-site leased workers from Agile-1 and Lancaster Laboratories.

Based upon the findings of the reconsideration investigation, the Department finds that Section 222(a)(1) has been met because a significant number or proportion of the workers in such workers' firm have become totally or partially separated, or are threatened to become totally or partially separated.

The Department also finds that Section 222(a)(2)(B) has been met because the workers' firm has partially acquired from a foreign country services like or directly competitive with the services supplied by the workers, which contributed importantly to worker group separations at the subject firm.

Conclusion

After careful review of the additional facts obtained on reconsideration, I determine that workers of Merck Sharp & Dohme Corporation, a subsidiary of Merck & Co., Inc., Research and Development Group, West Point, Pennsylvania, who were engaged in employment related to the supply of research and development services, meet the worker group certification criteria under Section 222(a) of the Act, 19 U.S.C. 2272(a). In accordance with Section 223 of the Act, 19 U.S.C. 2273, I make the following certification:

All workers of Merck Sharp & Dohme Corporation, a subsidiary of Merck & Co., Inc., Research and Development Group, including on-site leased workers from Agile-1 and Lancaster Laboratories, West Point, Pennsylvania who became totally or partially separated from employment on or after November 1, 2012, through two years from the date of this certification, and all workers in the group threatened with total or partial separation from employment on date of certification through two years from the date of certification, are eligible to apply for adjustment assistance under Chapter 2 of Title II of the Trade Act of 1974, as amended.

Signed in Washington, DC, this 12th day of August 2014.
Del Min Amy Chen,
Certifying Officer, Office of Trade Adjustment Assistance.

[FR Doc. 2014-19949 Filed 8-21-14; 8:45 am]

BILLING CODE 4510-FN-P